ENVIRONMENTAL PROTECTION AGENCY

[FRL OP-OFA-011]

Environmental Impact Statements; Notice of Availability

Responsible Agency: Office of Federal Activities, General Information 202-564-5632 or https://www.epa.gov/nepa.

Weekly receipt of Environmental Impact Statements (EIS) Filed March 28, 2022 10 a.m. EST Through April 4, 2022 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20220043, Draft, USACE, TX, Harris Reservoir Expansion Project Draft Environmental Impact Statement Prepared for Permit Application No. SWG-2016-01027, Comment Period Ends: 05/23/2022, Contact: Jayson Hudson 409-766-3108.

EIS No. 20220044, Draft, FERC, LA, Commonwealth LNG Project, Comment Period Ends: 05/23/2022, Contact: Office of External Affairs 866-208-3372.

EIS No. 20220045, Final, RUS, OK, Skeleton Creek Solar and Battery Storage Project, Review Period Ends: 05/09/2022, Contact: Kristen Bastis 202-692-4910.

EIS No. 20220046, Draft, USA, HI, Army Training Land Retention at Pōhakuloa Training Area, Comment Period Ends: 06/07/2022, Contact: Mr. Michael Donnelly 808-656-3160.

EIS No. 20220047, Final Supplement, NHTSA, REG, Corporate Average Fuel Economy Standards for Model Years 2024-2026, Contact: Vinay Nagabhushana 202-366-1452. Under 49 U.S.C. 304a(b), NHTSA has concurrently issued a final environmental impact statement and record of decision. Therefore, the 30-day wait/review period under NEPA does not apply to this action.

EIS No. 20220048, Final, DOE, NAT, Proposed Energy Conservation Standards for Manufactured Housing, Review Period Ends: 05/09/2022, Contact: Kristin Kerwin 240-562-1800.

Amended Notice

EIS No. 20220034, Draft Supplement, USACE, LA, WITHDRAWN—West Shore Lake Pontchartrain Hurricane and Storm Damage Risk Reduction Study, Contact: Landon Parr 504-862-1908. Revision to FR Notice Published 03/18/2022; Officially Withdrawn per request of the submitting agency.

Dated: April 4, 2022.
Cindy S. Barger,
Director, NEPA Compliance Division, Office of Federal Activities.

[FR Doc. 2022-07537 Filed 4-7-22; 8:45 am]

BILLING CODE 6560-50-P